NUCLEAR REGULATORY COMMISSION

[Docket Nos. 50-352 and 50-353]

Exelon Generation Company, LLC; Notice of Partial Withdrawal of Application for Amendment to Facility Operating License

The U.S. Nuclear Regulatory Commission (NRC or the Commission) has granted the request of Exelon Generation Company, LLC (the licensee) to withdraw a portion of its July 22, 2004, application and the December 3, 2004, and September 20, 2005, supplements for proposed amendments to Facility Operating License Nos. NPF-39 and NPF-85 for the Limerick Generating Station, Unit Nos. 1 and 2, located in Montgomery County, Pennsylvania.

The proposed amendments would have revised the Technical Specifications (TSs) pertaining to the operability requirements in TS 3/4.1.3, “Control Rods.” Specifically, one of the proposed changes would have eliminated consideration of control rod drive water pressure in the action statement of TS 3.1.3.1.b.1.b. The Commission had previously issued a Notice of Consideration of Issuance of Amendment published in the Federal Register on May 24, 2005 (70 FR 29794). However, by letter dated September 20, 2005, the licensee withdrew the above-referenced proposed change.

For further details with respect to this action, see the application for amendment dated July 22, 2004, as supplemented by letters dated December 3, 2004, and September 20, 2005. Documents may be examined, and/or copied for a fee, at the NRC's Public Document Room (PDR), located at One White Flint North, Public File Area 01 F21, 11555 Rockville Pike (first floor), Rockville, Maryland. Publicly-available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737, or by e-mail to pdr@nrc.gov.

Dated at Rockville, Maryland, this 27th day of September 2005.
For the Nuclear Regulatory Commission.
Travis L. Tate,
Project Manager, Section 2, Project Directorate I, Division of Licensing Project Management, Office of Nuclear Reactor Regulation.

[FR Doc. 05-19789 Filed 10-3-05; 8:45 am]

BILLING CODE 7590-01-P